DEPARTMENT OF COMMERCE

International Trade Administration

[A-421-811]

Purified Carboxymethylcellulose From the Netherlands: Final Results of Changed Circumstances Review and Revocation of the Antidumping Duty Order

AGENCY: Enforcement and Compliance, International Trade Administration, Department of Commerce.

SUMMARY: On August 31, 2015, the Department of Commerce (the Department) published its initiation and preliminary results ¹ of a changed circumstances review (CCR), preliminarily determining to revoke the antidumping duty (AD) Order ² on purified carboxymethylcellulose (CMC) from the Netherlands. We invited interested parties to comment on the Preliminary Results. We received no comments. Thus, we make no changes to our preliminary determination in these final results of changed circumstances review and hereby revoke the Order in toto.

¹ See Purified Carboxymethylcellulose From the Netherlands: Initiation and Preliminary Results of Changed Circumstances Review and Intent to Revoke the Antidumping Duty Order, 80 FR 52447 (August 31, 2015) (Preliminary Results).

² See Notice of Antidumping Duty Orders: Purified Carboxymethylcellulose from Finland, Mexico, the Netherlands and Sweden, 70 FR 39734 (July 11, 2005) (the Order).

FOR FURTHER INFORMATION CONTACT: John Drury, or Angelica Townsend, AD/CVD Operations, Office VI, Enforcement and Compliance, International Trade Administration, U.S. Department of Commerce, 14th Street and Constitution Avenue NW., Washington, DC 20230; telephone: (202) 482-0195 or (202) 482-3019, respectively.

DATES: Effective Date: July 1, 2014.

SUPPLEMENTARY INFORMATION:

Background

On July 8, 2015, in accordance with sections 751(b) and 751(d)(1) of the Tariff Act of 1930, as amended (the Act), 19 CFR 351.216(b); 351.222(g)(1), and 351.221(c)(3)(ii), Ashland Specialty Ingredients, G.P. (Ashland), the petitioner and sole domestic producer of CMC, requested, effective July 1, 2014, revocation of the Order with respect to the Netherlands as part of an expedited CCR. On August 31, 2015, the Department preliminarily determined to revoke the Order and invited interested parties to comment on the Preliminary Results.

We received no comments from interested parties on the Preliminary Results.

Scope of the Order

The merchandise covered by this order is all purified CMC, sometimes also referred to as purified sodium CMC, polyanionic cellulose, or cellulose gum, which is a white to off-white, non-toxic, odorless, biodegradable powder, comprising sodium CMC that has been refined and purified to a minimum assay of 90 percent. Purified CMC does not include unpurified or crude CMC, CMC Fluidized Polymer Suspensions, and CMC that is cross-linked through heat treatment. Purified CMC is CMC that has undergone one or more purification operations which, at a minimum, reduce the remaining salt and other by-product portion of the product to less than ten percent.

The merchandise subject to this order is classified in the Harmonized Tariff Schedule of the United States at subheading 3912.31.00. This tariff classification is provided for convenience and customs purposes; however, the written description of the scope of the order is dispositive.

Final Results of Changed Circumstances Review

Section 782(h)(2) of the Act and 19 CFR 351.222(g)(1)(i), provide that the Department may revoke an order (in whole or in part) if it determines that producers accounting for substantially all of the production of the domestic like product have no further interest in the order, in whole or in part. In accordance with 19 CFR 351.222(g)(1), we find that the petitioner's affirmative statement of no interest constitutes good cause to conduct this review. Ashland stated that, as the sole U.S. producer of CMC, it accounts for substantially all of the production of the domestic like product. Ashland also stated that it has no interest in the continuation of the Order.³ Therefore, at the request of Ashland and in accordance with sections 751(b)(1) and 751(d)(1) of the Act, 19 CFR 351.216, and 351.222(g)(1)(i) and (vi), we are revoking the Order on CMC from the Netherlands. As stated in the Preliminary Results, the revocation will be effective July 1, 2014, which is the effective date requested by Ashland and also the first day of the most recent period not subject to administrative review.⁴

³ See Ashland's July 8, 2015, submission to the Department; see also Preliminary Results, 80 FR at 52447-48.

⁴ See Preliminary Results, 80 FR at 52448.

Termination of Suspension of Liquidation

Because we determine that there are changed circumstances that warrant the revocation of the Order, we will instruct U.S. Customs and Border Protection to terminate the suspension of liquidation of the merchandise subject to this order entered, or withdrawn from warehouse, on or after July 1, 2014, and to release any cash deposit or bond on all unliquidated entries of the merchandise covered by the revocation that are not covered by the final results of an administrative review or automatic liquidation.⁵ Entries of subject merchandise prior to the effective date of revocation will continue to be subject to suspension of liquidation and antidumping duty deposit requirements.

⁵ See 19 CFR 351.222(g)(4).

Return or Destruction of Proprietary Information

This notice serves as a reminder to parties subject to administrative protective orders (APOs) of their responsibility concerning the disposition of proprietary information disclosed under APO in accordance with 19 CFR 351.305(a)(3). Timely written notification of the return/destruction of APO materials or conversion to judicial protective order is hereby requested. Failure to comply with the regulations and terms of an APO is a sanctionable violation.

Notification to Interested Parties

We are issuing and publishing these final results and notice in accordance with sections 751(b)(1) and 777(i)(1) of the Act and 19 CFR 351.216, 351.221(b)(5), and 351.222(g)(1)(i) and (g)(3)(vii).

Dated: October 7, 2015.
Paul Piquado,
Assistant Secretary for Enforcement and Compliance.

[FR Doc. 2015-26260 Filed 10-14-15; 8:45 am]

BILLING CODE 3510-DS-P